DEPARTMENT OF THE INTERIOR

National Park Service

[NPS-WASO-NAGPRA-NPS0029602; PPWOCRADN0-PCU00RP14.R50000]

Notice of Intent To Repatriate Cultural Items: University of Louisville, Louisville, KY

AGENCY: National Park Service, Interior.

ACTION: Notice.

SUMMARY: The University of Louisville, in consultation with the appropriate Indian Tribes or Native Hawaiian organizations, has determined that the cultural items listed in this notice meet the definition of unassociated funerary objects. Lineal descendants or representatives of any Indian Tribe or Native Hawaiian organization not identified in this notice that wish to claim these cultural items should submit a written request to the University of Louisville. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of Louisville at the address in this notice by March 6, 2020.

ADDRESSES: Dr. Thomas Jennings, University of Louisville, Department of Anthropology, Lutz Hall Room 228, Louisville, KY 40292, telephone (502) 852-2421, email thomas.jennings@louisville.edu.

SUPPLEMENTARY INFORMATION: Notice is here given in accordance with the Native American Graves Protection and Repatriation Act (NAGPRA), 25 U.S.C. 3005, of the intent to repatriate cultural items under the control of the University of Louisville, Louisville, KY, that meet the definition of unassociated funerary objects under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item(s)

In 1969, 1971, and 1972, one lot of lithics and one lot of ochre were excavated from the Lawrence site (15Tr33) in Trigg County, KY.

The Lawrence site has yielded Early Archaic human remains and associated funerary objects described elsewhere in a Notice of Inventory Completion published in the Federal Register on July 15, 2019. The site report also describes the two lots of items listed above as coming from burial contexts and clear (to the excavators) burial features. However, no human remains were collected at the time due to poor organic preservation.

Determinations Made by the University of Louisville

Officials of the University of Louisville have determined that:

• Pursuant to 25 U.S.C. 3001(3)(B), the two cultural items described above are reasonably believed to have been placed with or near individual human remains at the time of death or later as part of the death rite or ceremony and are believed, by a preponderance of the evidence, to have been removed from a specific burial site of a Native American individual.

• Pursuant to 25 U.S.C. 3001(2), there is a relationship of shared group identity that can be reasonably traced between the unassociated funerary objects and the Cherokee Nation; Eastern Band of Cherokee Indians; The Chickasaw Nation; and the United Keetoowah Band of Cherokee Indians in Oklahoma (hereafter referred to as “The Tribes”).

Additional Requestors and Disposition

Lineal descendants or representatives of any Indian Tribe or Native Hawaiian organization not identified in this notice that wish to claim these cultural items should submit a written request with information in support of the claim to Dr. Thomas Jennings, University of Louisville, Department of Anthropology, Lutz Hall 228, Louisville, KY 40292, telephone (502) 852-2421, email thomas.jennings@louisville.edu, by March 6, 2020. After that date, if no additional claimants have come forward, transfer of control of the unassociated funerary objects to The Tribes may proceed.

The University of Louisville is responsible for notifying The Tribes that this notice has been published.

Dated: January 9, 2020.
Melanie O'Brien,
Manager, National NAGPRA Program.

[FR Doc. 2020-02242 Filed 2-4-20; 8:45 am]

BILLING CODE 4312-52-P